DEPARTMENT OF TRANSPORTATION

Federal Aviation Administration

14 CFR Part 71

[Airspace Docket No. 99-ASO-17]

Amendment to Class E Airspace; Puerto Rico, PR

AGENCY: Federal Aviation Administration (FAA), DOT.

ACTION: Final rule.

SUMMARY: This amendment modifies Class E airspace at Puerto Rico, PR. This amendment will increase the size of the Puerto Rico, PR, Class E airspace area to include the airspace within Warning Areas W-370A, W-373A and W-373C, in order to facilitate the handling, reduce the coordination and increase the safety of United States military aircraft returning to Roosevelt Roads Naval Station below 5,500 feet mean sea level (MSL), which is the floor of the overlying San Juan Low Class E airspace area, in instrument meteorological conditions (IMC) from the Warning Areas.

EFFECTIVE DATE: 0901 UTC, April 20, 2000.

FOR FURTHER INFORMATION CONTACT: Nancy B. Shelton, Manager, Airspace Branch, Air Traffic Division, Federal Aviation Administration, P.O. Box 20636, Atlanta, Georgia 30320; telephone (404) 305-5586.

SUPPLEMENTARY INFORMATION:

History

On November 24, 1999, the FAA proposed to amend part 71 of the Federal Aviation Regulations (14 CFR part 71) by amending Class E airspace at Puerto Rico, PR, (64 FR 226). This amendment modifies Class E airspace at Puerto Rico, PR. Designations for Class E airspace extending upward from 700 feet or more above the surface of the earth are published in FAA Order 7400.9G, dated September 1, 1999, and effective September 16, 1999, which is incorporated by reference in 14 CFR part 71.1. The Class E designation listed in this document will be published subsequently in the Order.

Interested parties were invited to participate in this rulemaking proceeding by submitting written comments on the proposal to the FAA. No comments objecting to the proposal were received.

The Rule

This amendment to part 71 of the Federal Aviation Regulations (14 CFR part 71) amends Class E airspace at Puerto Rico, PR.

The FAA has determined that this regulation only involves an established body of technical regulations for which frequent and routine amendments are necessary to keep them operationally current. It, therefore, (1) Is not a “significant regulatory action” under Executive Order 12866; (2) Is not a “significant rule” under DOT Regulatory Policies and Procedures (44 FR 11034; February 26, 1979); and (3) Does not warrant preparation of a Regulatory Evaluation, as the anticipated impact is so minimal. Since this is a routine matter that will only affect air traffic procedures and air navigation it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g), 40103, 40113, 40120; EO 10854, 24 FR 9565, 3 CFR, 1959-1963 Comp., p. 389.

§ 71.1 [Amended]

2. The incorporation by reference in 14 CFR 71.1 of Federal Aviation Administration Order 7400.9G, Airspace Designations and Reporting Points, dated September 1, 1999, and effective September 16, 1999, is amended as follows:

Paragraph 6005 Class E airspace areas extending upward from 700 feet or more above the surface of the earth.

* * * * *

ASO PR E5 Puerto Rico, PR [Revised]

San Juan Fernando Luis Ribas Dominicci Airport, PR

(Lat. 18°27′41″N., long 66°05′89″W.)

That airspace extending upward from 1200 feet or more above the surface of the earth beginning at lat. 18°50′N., long. 68°00′W.; to lat. 18°45′23″N., long. 66°54′58″W.; to lat. 18°33′N., long. 64°22′W.; to lat 17°20′N., long. 64°22′W.; to lat. 17°29′N., long. 64°54′W.; to lat. 17°29′53″N., long. 64°55′39″W.; to lat. 17°29′53″N., long. 66°18′20″W.; to lat. 17°44′53″N., long. 66°16′49″W.; to lat. 17°47′16″long. 66°16′56″W.; to lat. 17°42′N.,long. 68°00′W.; to the point of beginning; excluding that airspace within Warning Area W-371; and that airspace extending upward from 2,700 feet above the surface of the earth beginning at lat. 18°33′N., long. 64°22′W.; to lat. 18°25′23″N., long. 62°52′W.; to lat. 17°47′N., long. 62°23′W.; to lat 17°22′N., long. 62°59′W.; to lat. 16°58′N., long. 63°00′W.; to lat. 17°20′N., long. 64°22′W.; to the point of beginning; and that airspace extending upward from 2,700 feet above the surface of the earth beginning at lat. 18°45′23″N., long. 66°54′58″W.; to lat. 19°00′N., long. 5°45′W.; to lat. 18°45′N., long. 64°22′W.; to lat. 18°33′N., long. 64°22′W.; to the point of beginning.

* * * * *

Issued in College Park, Georgia, on January 6, 2000.
Nancy B. Shelton,
Acting Manager, Air Traffic Division Southern Region.

[FR Doc. 00-1052 Filed 1-14-00; 8:45am]

BILLING CODE 4910-13-M